DEPARTMENT OF COMMERCE

National Oceanic and Atmospheric Administration

[I.D. 021805H]

Request for a Limited Waiver of the Moratorium on Taking Marine Mammals

AGENCY: National Marine Fisheries Service (NMFS), National Oceanic and Atmospheric Administration (NOAA), Commerce.

ACTION: Notice of availability.

SUMMARY: The Makah Tribe of Washington State submitted a request to NMFS for a waiver of the moratorium in the Marine Mammal Protection Act on taking marine mammals. The request is available for public inspection.

ADDRESSES: A copy of the request may be obtained by writing Chief, Marine Mammal Conservation Division, Office of Protected Resources, NMFS/PR2, 1315 East West Highway, Silver Spring, MD 20910

FOR FURTHER INFORMATION CONTACT: Tom Eagle, Office of Protected Resources, 301-713-2322, ext. 105, e-mail Tom.Eagle@noaa.gov .

SUPPLEMENTARY INFORMATION:

Electronic Access

The request for waiver and supplemental material are available via the Internet at http://www.nmfs.noaa.gov/pr/. See Makah Request for Waiver under “Recent News and Hot Topics”.

Background

On February 14, 2005, NMFS received a request from the Makah Tribe of Washington State for a waiver of the MMPA's moratorium on taking marine mammals to allow Tribal members to take limited number of Eastern North Pacific gray whales under an aboriginal subsistence quota issued by the International Whaling Commission (IWC). The Makah request to harvest up to 20 whales in a 5-year period; however, in a single year, no more than seven whales could be struck, and no more than five whales could be landed.

MMPA section 101(a) places a moratorium on the taking of marine mammals with limited specific exceptions. MMPA section 101(a)(3)(A) allows and directs NMFS to determine when, to what extent, if at all, and by what means, it is compatible with the MMPA to waive the moratorium. In so doing, NMFS must have due regard for the distribution, abundance, breeding habits, and times and lines of migratory movements of such marine mammals. Formal procedures for waiving the moratorium and issuing pertinent regulations are described in MMPA section 103(d).

Dated: February 23, 2005.
Laurie K. Allen,
Director, Office of Protected Resources, National Marine Fisheries Service.

[FR Doc. 05-4048 Filed 3-2-05; 8:45 am]

BILLING CODE 3510-22-S